ENVIRONMENTAL PROTECTION AGENCY

[FRL OP-OFA-167]

Environmental Impact Statements; Notice of Availability

Responsible Agency: Office of Federal Activities, General Information 202-564-5632 or https://www.epa.gov/nepa.

Weekly receipt of Environmental Impact Statements (EIS)

Filed February 14, 2025 10 a.m. EST Through February 24, 2025 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20250024, Final, BLM, WY, Dry Creek Trona Mine Project, Review Period Ends: 03/31/2025, Contact: Kelly Lamborn 307-828-4505.

EIS No. 20250025, Final, USACE, VA, Southeastern Public Service Authority (SPSA) Landfill Expansion, Review Period Ends: 03/31/2025, Contact: Melissa Nash 757-201-7489.

Dated: February 24, 2025.
Nancy Abrams,
Associate Director, Office of Federal Activities.

[FR Doc. 2025-03263 Filed 2-27-25; 8:45 am]

BILLING CODE 6560-50-P